DEPARTMENT OF THE INTERIOR

Bureau of Indian Affairs

Indian Gaming

AGENCY: Bureau of Indian Affairs, Interior.

ACTION: Notice of extension to the Tribal-State Gaming Compact between the State of Montana and the Assiniboine and Sioux Tribes of the Fort Peck Reservation.

SUMMARY: Pursuant to section 11 of the Indian Gaming Regulatory Act of 1988 (IGRA), Public Law 100-497, 25 U.S.C 2710, the Secretary of the Interior shall publish, in the Federal Register, notice of approved Tribal-State Compacts for the purpose of engaging in Class III gaming activities on Indian lands. The Assistant Secretary—Indian Affairs, Department of the Interior, through her delegated authority, has approved the Extension to the Tribal-State Compact for Class III gaming between the State of Montana and the Assiniboine and Sioux Tribes of the Fort Peck Reservation. The Extension renews and extends the term of the existing agreement to September 30, 2003.

EFFECTIVE DATE: September 25, 2003.

FOR FURTHER INFORMATION CONTACT: George T. Skibine, Director, Office of Indian Gaming Management, Bureau of Indian Affairs, Washington, DC 20240, (202) 219-4066.

Dated: August 29, 2003.
Aurene M. Martin,
Assistant Secretary—Indian Affairs.

[FR Doc. 03-24298 Filed 9-24-03; 8:45 am]

BILLING CODE 4310-4N-P